DEPARTMENT OF VETERANS AFFAIRS

[OMB Control No. 2900-0554]

Proposed Information Collection (VA Homeless Providers Grant and Per Diem Program)

AGENCY: Veterans Health Administration, Department of Veterans Affairs.

ACTION: Notice; Activity: Comment request.

SUMMARY: The Veterans Health Administration (VHA) is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to identify areas for improvement in clinical training programs.

DATES: Written comments and recommendations on the proposed collection of information should be received on or before December 6, 2016.

ADDRESSES: Submit written comments on the collection of information through the Federal Docket Management System (FDMS) at www.Regulations.gov; or to Brian McCarthy, Office of Regulatory and Administrative Affairs, Veterans Health Administration (10B4), Department of Veterans Affairs, 810 Vermont Avenue NW., Washington, DC 20420 or email: Brian.McCarthy4@va.gov. Please refer to “OMB Control No. 2900-0554” in any correspondence. During the comment period, comments may be viewed online through FDMS.

FOR FURTHER INFORMATION CONTACT: Brian McCarthy at (202) 461-6345.

SUPPLEMENTARY INFORMATION: Under the PRA of 1995 (Pub. L. 104-13; 44 U.S.C. 3501—3521), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: VA Homeless Providers Grant and Per Diem Program.

OMB Control Number: 2900-0554.

Type of Review: Reinstatement with change of a currently expired collection.

Summary of collection of information: The proposed rule at §§ 61.33 and 61.80, contains compliance reporting provisions for capital grants, per diem, and special needs grants.

Description of the need for information and proposed use of information: Determine eligibility for capital grants and per diem and reporting requirements to determine grant compliance.

Description of likely respondents: Grant Applicants—Non-Profit Agencies, State and Local Governments, and Indian Tribal Governments.

Estimated number of respondents per year: 650.

Estimated frequency of responses per year: 1 per year.

Estimated average burden per response: 18.98 hours.

Estimated total annual reporting and recordkeeping burden: 12,337 hours.

By direction of the Secretary,
Cynthia Harvey-Pryor,
Program Specialist, Office of Privacy and Records Management, Department of Veterans Affairs.

[FR Doc. 2016-24243 Filed 10-6-16; 8:45 am]

BILLING CODE 8320-01-P